FEDERAL COMMUNICATIONS COMMISSION

[OMB 3060-1219]

Information Collection Approved by the Office of the Management and Budget (OMB)

AGENCY: Federal Communications Commission.

ACTION: Notice.

SUMMARY: The Federal Communications Commission has received Office of Management and Budget (OMB) approval, for a period of three years, of the information collection requirements under control number 3060-1219, as required by the Paperwork Reduction Act (PRA) of 1995 (44 U.S.C. 3501-3520). An agency may not conduct or sponsor a collection of information unless it displays a currently valid OMB control number, and no person is required to respond to a collection of information unless it displays a currently valid OMB control number. Comments concerning the accuracy of the burden estimates and any suggestions for reducing the burden should be directed to the person listed in the For Further Information Contact section below.

FOR FURTHER INFORMATION CONTACT: Nicole Ongele, Office of Managing Director, at (202) 418-2991 or email: Nicole.Ongele@fcc.gov.

SUPPLEMENTARY INFORMATION:

OMB Control Number: 3060-1219.

OMB Approval Date: September 20, 2016.

OMB Expiration Date: September 30, 2019.

Title: Connect America Fund-Alternative Connect America Cost Model Support.

Form Numbers: N/A.

Respondents: Business or other for-profit.

Estimated Number of Respondents and Responses: 2,010 respondents; 2,090 responses.

Estimated Time per Response: 0.5-2 hours.

Frequency of Response: On occasion and annual reporting requirement, one-time reporting requirement and recordkeeping requirement.

Obligation to Respond: Required to obtain or retain benefits. Statutory authority for this information collection is contained in 47 U.S.C. 151-154, 155, 201-206, 214, 218-220, 251, 252, 254, 256, 303(r), 332, 403, 405, 410, and 1302.

Estimated Total Annual Burden: 1,780 hours.

Total Annual Cost: No Cost.

Nature and Extent of Confidentiality: We note that USAC must preserve the confidentiality of all data obtained from respondents; must not use the data except for purposes of administering the universal service programs; and must not disclose data in company-specific form unless directed to do so by the Commission.

Privacy Act Impact Assessment: No impact(s).

Needs and Uses: The Commission adopted a voluntary path for rate-of-return carriers to receive model-based universal service support in exchange for making a commitment to deploy broadband-capable networks meeting certain service obligation to a pre-determined number of eligible locations by state. The Commission addressed the requirement that carriers electing model-based support must notify the Commission of that election and their commitment to satisfy the specific service obligations associated with the amount of model support. In addition, the Commission adopted reforms to the universal service mechanisms used to determine support for rate-of-return carriers not electing model-based support. Among other such reforms, the Commission adopted an operating expense limitation to improve carriers' incentives to be prudent and efficient in their expenditures, a capital investment allowance to better target support to those areas with less broadband deployment, and broadband deployment obligations to promote “accountability from companies receiving support to ensure that public investment are used wisely to deliver intended results.” This information collection addresses the new burdens associated with those reforms.

Federal Communications Commission.
Gloria J. Miles,
Federal Register Liaison Officer, Office of the Secretary.

[FR Doc. 2016-25593 Filed 10-21-16; 8:45 am]

BILLING CODE 6712-01-P